DEPARTMENT OF HEALTH AND HUMAN SERVICES

Health Resources and Services Administration

Senior Executive Service Performance Review Board

AGENCY: Health Resources and Services Administration (HRSA), Department of Health and Human Services (HHS).

ACTION: Notice.

SUMMARY: HRSA, an Operating Division of HHS, is publishing a list of staff who may be named to serve on the Performance Review Board that oversees the evaluation of performance appraisals for Senior Executive Service members within HRSA for the Fiscal Year 2017 and 2018 review period.

FOR FURTHER INFORMATION CONTACT: Dora Ober, Executive Resources, Office of Human Resources, 5600 Fishers Lane, Rm. 12N06C, Rockville, Maryland 20857, Telephone (301) 443-0759.

SUPPLEMENTARY INFORMATION: Title 5, U.S.C. Section 4314(c)(4) of the Civil Service Reform Act of 1978, Public Law 95-454, requires that the appointment of Performance Review Board Members be published in the Federal Register. The following persons may be named to serve on the HRSA Performance Review Board:

Leslie Atkinson

Tonya Bowers

Adriane Burton

Tina Cheatham

Laura Cheever

Caroline Cochran

Cheryl Dammons

Elizabeth DeVoss

Diana Espinosa

Catherine Ganey

Alexandra Garcia

Richard Goodman

Heather Hauck

Avril Houston

Laura Kavanagh

Martin Kramer

Rimas Liogys

Michael Lu

James Macrae

Thomas Morris

Kerry Nesseler

Luis Padilla

Deborah Parham Hopson

Wendy Ponton

Dated: June 29, 2017.
George Sigounas,
Administrator.

[FR Doc. 2017-14221 Filed 7-6-17; 8:45 am]

BILLING CODE 4165-15-P